COMMISSION ON CIVIL RIGHTS

Notice of Public Meeting of the Oregon Advisory Committee; Cancellation

AGENCY: Commission on Civil Rights.

ACTION: Notice; cancellation of meeting.

SUMMARY: The Commission on Civil Rights published a notice in the Federal Register concerning a meeting of the Oregon Advisory Committee. The meeting scheduled for Friday, April 16, 2021 at 1:00 p.m. (PT) is cancelled. The notice is in the Federal Register of Monday, April 5, 2021, in FR Doc. 2021-06894, on page 17589.

FOR FURTHER INFORMATION CONTACT: Ana Victoria Fortes, (202) 681-0657, afortes@usccr.gov.

Dated: April 5, 2021.
David Mussatt,
Supervisory Chief, Regional Programs Unit.

[FR Doc. 2021-07283 Filed 4-8-21; 8:45 am]

BILLING CODE P